DEPARTMENT OF THE TREASURY

Fiscal Service

Surety Companies Acceptable on Federal Bonds Terminations: American and Foreign Insurance Company, American Interstate Insurance Company, Commercial Insurance Company of Newark, New Jersey; Globe Indemnity Company, Grain Dealers Mutual Insurance Company, National-Ben Franklin Insurance Company of Illinois, Royal Indemnity Company; Royal Insurance Company of America, Safeguard Insurance Company

AGENCY: Financial Management Service, Fiscal Service, Department of the Treasury.

ACTION: Notice.

SUMMARY: This is Supplement No. 29 to the Treasury Department Circular 570; 2001 Revision, published July 2, 2001 at 66 FR 35024.

FOR FURTHER INFORMATION CONTACT: Surety Bond Branch at (202) 874-6850.

SUPPLEMENTARY INFORMATION: Notice is hereby given that the Certificates of Authority issued by the Treasury to the above-named Companies, under the United States Code, Title 31, Sections 9304-9308, to qualify as acceptable sureties on Federal bonds are terminated effective June 30, 2002.

The Companies were last listed as acceptable sureties on Federal bonds at 66 FR starting on page 35024, July 2, 2001.

With respect to any bonds currently in force with above listed Companies, bond-approving officers may let such bonds run to expiration and need not secure new bonds. However, no new bonds should be accepted from these Companies. In addition, bonds that are continuous in nature should not be renewed.

The Circular may be viewed and downloaded through the Internet at http://www.fms.treas.gov/c570/index.html. A hard copy may be purchased from the Government Printing Office (GPO), Subscription Service, Washington, DC, telephone (202) 512-1800. When ordering the 2001 Circular from GPO, use the following stock number: 769-004-04067-1.

Questions concerning this notice may be directed to the U.S. Department of the Treasury, Financial Management Service, Financial Accounting and Services Division, Surety Bond Branch, 3700 East-West Highway, Room 6F07, Hyattsville, MD 20782.

Dated: June 30, 2002.
Wanda J. Rogers,
Director, Financial Accounting and Service Division, Financial Management Service.

[FR Doc. 02-17216 Filed 7-9-02; 8:45 am]

BILLING CODE 4810-35-M